DEPARTMENT OF ENERGY

Federal Energy Regulatory Commission

[Docket No. RP00-260-007]

Texas Gas Transmission Corporation; Notice of Proposed Changes in FERC Gas Tariff

March 26, 2001.

Take notice that on March 21, 2001, Texas Gas Transmission Corporation (Texas Gas) tendered for filing as part of its FERC Gas Tariff, First Revised Volume No. 1, the following tariff sheets to become effective March 1, 2001:

Thirty-Seventh Revised Sheet No. 10

Twentieth Revised Sheet No. 10A

Third Revised Sheet No. 10A.01

Second Revised Sheet No. 10A.02

Thirty-Third Revised Sheet No. 11

Twenty-First Revised Sheet No. 11B

Fourth Revised Sheet No. 11C

Third Revised Sheet No. 11D

Thirty-Fifth Revised Sheet No. 12

Third Revised Sheet No. 12.01

Fifteenth Revised Sheet No. 13

Fourth Revised Sheet No. 13A

Fourteenth Revised Sheet No. 15

Fifteenth Revised Sheet No. 16

Fourteenth Revised Sheet No. 17

Ninth Revised Sheet No. 18

Texas Gas, Commission Staff, and other parties have participated in a number of settlement conferences to attempt to settle the RP00-260 rate proceeding and avoid a formal hearing. As a result of the conferences, Texas Gas, Commission Staff, and all parties were able to reach an agreement in principle with regard to the total cost of service. While such agreement is contingent upon resolution of certain remaining cost allocation and rate design issues before a proposed stipulation and agreement can be filed, Texas Gas has agreed, as a part of such cost of service agreement, to file a motion to implement interim reduced base tariff rates on a month-to-month basis, pending further settlement discussions.

Accordingly, Texas Gas is filing to place into effect on March 1, 2001, the tariff sheets listed above. These sheets and the reduced base rates set forth are proposed to go into effect March 1, 2001, and are to remain in effect on a month-to-month basis pending continuation of settlement negotiations in the captioned proceeding. In the event such settlement negotiations are not successful Texas Gas reserves the right, and requests authority, to withdraw such interim reduced rates and to prospectively reinstate the motion rates at any time by filing with the Commission to withdraw such interim reduced rates. If Texas Gas files to withdraw such interim reduced rates, such rates shall be withdrawn and the motion rates shall be reinstated effective the first day of the month after such filing is made. This filing is expressly conditioned upon receipt of such authority to reinstitute the motion rates as described above.

Copies of the revised tariff sheets are being mailed to Texas Gas's jurisdictional customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR (385.2001(a)(1)(iii) and the instructions on the Commission's web site at

http://www.ferc.fed.us/efi/doorbell.htm.

David P. Boergers,
Secretary.

[FR Doc. 01-7854 Filed 3-29-01; 8:45 am]

BILLING CODE 6717-01-M